DEPARTMENT OF TRANSPORTATION

Federal Aviation Administration

14 CFR Part 39

[Docket No. FAA-2006-24709; Directorate Identifier 2006-CE-28-AD]

RIN 2120-AA64

Airworthiness Directives; Glasflugel Models H 301 “Libelle,” H 301B “Libelle,” Standard “Libelle,” and Standard Libelle-201B Sailplanes

AGENCY: Federal Aviation Administration (FAA), Department of Transportation (DOT).

ACTION: Notice of proposed rulemaking (NPRM).

SUMMARY: We propose to adopt a new airworthiness directive (AD) for all Glasflugel Models H 301 “Libelle,” H 301B “Libelle,” Standard “Libelle,” and Standard Libelle-201B sailplanes. This proposed AD would require you to replace the rudder actuator arm (manufactured according to drawing No. 301-45-10) with an improved design rudder actuator arm (manufactured following drawing No. 301-45-13). This proposed AD results from mandatory continuing airworthiness information (MCAI) issued by the airworthiness authority for Germany. We are proposing this AD to detect and correct damage to the rudder actuator arm, which could result in failure of the rudder actuator arm. This failure could result in reduced or loss of rudder control.

DATES: We must receive comments on this proposed AD by September 11, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact Glasflugel, Glasfaser-Flugzeug-Service GmbH, Hansjory Steifeneder, Hofener Weg, 72582 Grabenstetten, Federal Republic of Germany; telephone: 011 49 7382 1032.

FOR FURTHER INFORMATION CONTACT: Gregory Davison, Glider Project Officer, ACE-112, Small Airplane Directorate, 901 Locust, Room 301, Kansas City, Missouri 64106; telephone: (816) 329-4130; facsimile: (816) 329-4090.

SUPPLEMENTARY INFORMATION:

Comments Invited

We invite you to send any written relevant data, views, or arguments regarding this proposed AD. Send your comments to an address listed under the ADDRESSES section. Include the docket number, “FAA-2006-24709; Directorate Identifier 2006-CE-28-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

The Luftfahrt-Bundesamt (LBA), which is the airworthiness authority for Germany, notified FAA that an unsafe condition may exist on all Glasflugel Models H 301 “Libelle,” H 301B “Libelle,” Standard “Libelle,” and Standard Libelle-201B sailplanes. The LBA reports several occurrences of damage to the rudder actuator arm caused by inappropriately lifting the fuselage at the rudder during ground handling. Visual inspections of the actuator arm revealed the damage to the rudder actuator arm.

This condition, if not corrected, could result in failure of the rudder actuator arm. This failure could result in reduced or loss of rudder control.

Relevant Service Information

We have reviewed Glasfaser-Flugzeug-Service GmbH Hansjörg Streifeneder Technical Note No. 201-35 and No. 301-39, dated March 1, 2005.

The service information describes procedures for replacing the rudder actuator arm (manufactured according to drawing No. 301-45-10) with an improved design actuator arm (manufactured following drawing No. 301-45-13).

Foreign Airworthiness Authority Information

The LBA classified this service bulletin as mandatory and issued German AD Number D-2005-118, dated April 4, 2005, to ensure the continued airworthiness of these sailplanes in Germany.

These Glasflugel Models H 301 “Libelle,” H 301B “Libelle,” Standard “Libelle,” and Standard Libelle-201B sailplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of the Proposed AD

We are proposing this AD because we have examined the LBA's findings, evaluated all information and determined the unsafe condition described previously is likely to exist or develop on other products of the same type design that are certificated for operation in the United States.

This proposed AD would require you to replace the rudder actuator arm (manufactured according to drawing No. 301-45-10) with an improved design actuator arm (manufactured following drawing No. 301-45-13).

Costs of Compliance

We estimate that this proposed AD would affect 160 sailplanes in the U.S. registry.

We estimate the following costs to do the proposed replacement of the rudder actuator arm (manufactured according to drawing No. 301-45-10):

Labor cost | Parts cost | Total cost per sailplane | Total cost on U.S. operators
3 work-hours × $80 per hour = $240 | $150 | $390 | $62,400

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Glasflugel: Docket No. FAA-2006-24709; Directorate Identifier 2006-CE-28-AD.

Comments Due Date

(a) We must receive comments on this airworthiness directive (AD) action by September 11, 2006.

Affected ADs

(b) None.

Applicability

(c) This AD affects Models H 301 “Libelle,” H 301B “Libelle,” Standard “Libelle,” and Standard Libelle-201B sailplanes, all serial numbers, that are certificated in any category.

Unsafe Condition

(d) This AD results from mandatory continuing airworthiness information (MCAI) issued by the airworthiness authority for Germany. We are issuing this AD to detect and correct damage to the rudder actuator arm, which could result in failure of the rudder actuator arm. This failure could result in reduced or loss of rudder control.

Compliance

(e) To address this problem, you must do the following:

Actions | Compliance | Procedures
(1) Replace the rudder actuator arm (manufactured according to drawing No. 301-45-10) with an improved design actuator arm (manufactured following drawing No. 301-45-13) | Within the next 30 days after the effective date of this AD, unless already done | Follow Glasfaser-Flugzeug-Service GmbH Hansjörg Streifeneder Technical Note No. 201-35 and No. 301-39, dated March 1, 2005.
(2) Do not install any rudder actuator arm (manufactured according to drawing No. 301-45-10) | As of the effective date of this AD | Not Applicable.

Alternative Methods of Compliance (AMOCs)

(f) The Manager, Standards Office, Small Airplane Directorate, FAA, ATTN: Gregory Davison, Glider Project Officer, ACE-112, Small Airplane Directorate, 901 Locust, Room 301, Kansas City, Missouri 64106; telephone: (816) 329-4130; facsimile: (816) 329-4090, has the authority to approve AMOCs for this AD, if requested using the procedures found in 14 CFR 39.19.

Related Information

(g) German AD Number D-2005-118, dated April 4, 2005, also addresses the subject of this AD. To get copies of the service information referenced in this AD, contact Glasflugel, Glasfaser-Flugzeug-Service GmbH, Hansjory Steifeneder, Hofener Weg, 72582 Grabenstetten, Federal Republic of Germany; telephone: 011 49 7382 1032. To view the AD docket, go to the Docket Management Facility; U.S. Department of Transportation, 400 Seventh Street, SW., Nassif Building, Room PL-401, Washington, DC, or on the Internet at http://dms.dot.gov. The docket number is Docket No. FAA-2006-24709; Directorate Identifier 2006-CE-28-AD.

Issued in Kansas City, Missouri, on August 4, 2006.
John Colomy,
Acting Manager, Small Airplane Directorate, Aircraft Certification Service.

[FR Doc. E6-13134 Filed 8-10-06; 8:45 am]

BILLING CODE 4910-13-P